DEPARTMENT OF ENERGY

Federal Energy Regulatory Commission

[Docket No. RP02-346-000]

CMS Trunkline Gas Company, LLC; Notice of Proposed Changes in FERC Gas Tariff

June 6, 2002.

Take notice that on May 31, 2002, CMS Trunkline Gas Company, LLC (Trunkline) tendered for filing as part of its FERC Gas Tariff, Second Revised Volume No. 1, the following revised tariff sheets to be effective July 1, 2002:

First Revised Sheet No. 129

First Revised Sheet No. 130

Original Sheet No. 130A

First Revised Sheet No. 131

Trunkline states that the purpose of this filing, made in accordance with the provisions of Section 154.204 of the Commission's Regulations, is to implement a new feature of Rate Schedule GPS for Gas Parking Service, that will enable a shipper to nominate delivery of gas to its parking point and receipt of an equivalent quantity of gas from its parking point within the gas day.

Trunkline states that copies of the public portion of this filing are being served on all affected customers and applicable state regulatory agencies.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-14884 Filed 6-12-02; 8:45 am]

BILLING CODE 6717-01-P